DEPARTMENT OF LABOR

Office of Disability Employment Policy

[SGA 03-16]

Innovative State Alignment Grants for Improving Transition Outcomes for Youth With Disabilities Through the Use of Intermediaries

AGENCY: Office of Disability Employment Policy, U.S. Department of Labor.

ACTION: Notice of availability of funds; solicitation for grant applications (SGA).

This notice contains all of the necessary information and forms needed to apply for grant funding. (SGA 03-16).

SUMMARY: The U.S. Department of Labor (DOL), Office of Disability Employment Policy (ODEP) announces the availability of $3 million to award up to 6 competitive grants in the amount of approximately $500,000. Eligible applicants include State Workforce Investment Boards or the functional equivalent State entities. Indian and Native American tribal entities, or consortia of tribes, are also eligible to apply.

The purpose of this grant initiative is to:

1. Help States conduct resource mapping ¹ to assess their youth service delivery infrastructure in light of evidence-based transition operating principles ²;

¹ “Resource mapping” refers to a methodology that has been used by the Federal government, State agencies, local entities, and community-based organizations, among others, to link and align resource use with organizational goals, strategies, and expected outcomes. It is known by a multitude of names including asset mapping, asset analysis, and environment scans, and can involve a variety of different data collection strategies depending on what is being studied. For purposes of this SGA, the term “resource mapping” refers to the identification of available assets and resources within the States' youth service delivery infrastructure and an evaluation as to whether and/or to what extent that system is currently serving youth with disabilities consistent with the evidence-based operative principles discussed previously.

² “Evidence based transition operating principles” is a term defined, for purposes of this SGA, in part III.

2. Develop, implement, and evaluate a cross-agency multi-year State plan to improve transition outcomes for youth with disabilities through blending and/or braiding ³ of Federal, State, and community resources and the use of local intermediary organizations;

³ For purposes of this SGA, the term “blended funding” is used to describe mechanisms that pool dollars from multiple sources and make them in some ways indistinguishable. “Braided funding” utilizes similar mechanisms, but the funding streams remain visible and are used in common to produce greater strength, efficiency, and/or effectiveness.

3. Conduct local pilot demonstrations to determine how, through community partnerships, intermediary organizations can best be used to ensure that youth with disabilities obtain transition services consistent with evidence-based transition operating principles, and the impact of such intermediaries on improving transition outcomes for youth with disabilities; and

4. Demonstrate, through leveraging Federal, State and local public sector resources, concrete evidence of the likelihood of sustainability of grant objectives within the State.

These grants are for a one-year period and may be renewed for a period of up to four additional years depending upon the availability of funds and the efficacy of the project activities. See also parts IV and IX.

In meeting grant objectives, it is expected that the grantee will sub-award a substantial portion of its award to intermediary organizations. For purposes of this SGA, an intermediary organization is defined as an agent that:

• Convenes local leadership and broker relationships with multiple partners across multiple funding streams;

• Brings together workforce development systems, vocational rehabilitation providers, businesses, labor unions, educational institutions, social service organizations, transportation entities, health providers, and other Federal, State, and community resources which youth with disabilities need to transition to employment successfully.

Possible intermediaries include, but are not limited to, community-based non-profit organizations, faith-based and community organizations, employer organizations, community colleges, community rehabilitation programs, etc.

By connecting schools and other youth-serving institutions with workplaces and other available Federal, State, and community resources, the intermediaries will create a forum for building a system that better meets the needs of all interested stakeholders. In addition, intermediary organizations can assist the state in assessing and evaluating the performance and impact of its efforts related to these grant activities, and in providing necessary information and training in areas such as benefits planning, universal access, reasonable accommodation, mental health, housing, transportation, health maintenance (including Medicare and Medicaid), and other self-sufficiency issues.

DATES: Applications will be accepted commencing on June 16, 2003. The closing date for receipt of applications under this announcement is July 28, 2003. Applications must be received by 4:45 p.m. (e.t.) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-16, Room N-5416, 200 Constitution Avenue, NW., Washington, DC 20210. Telefascimile (FAX) applications will not be accepted. Applicants are advised that mail delivery in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact the Department via the Federal Relay Service, (800) 877-8339. This announcement will also be published on the Internet on ODEP's online home page at: http://www2.dol.gov/odep. Award notifications will also be published on the ODEP home page.

SUPPLEMENTARY INFORMATION:

Part I. Delivery of Applications

1. Late Applications. Any application received after the exact date and time specified for receipt at the office designated in this notice will be considered non-responsive, unless it is received before awards are made and it (a) is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-Delivered Proposals. It is preferred that applications be mailed at least five days prior to the closing date. To be considered for funding, hand-delivered applications must be received by 4:45 p.m., e.t., at the specified address. Failure to adhere to the above instructions will be basis for a determination of non-responsiveness. Overnight express mail from carriers other than the U.S. Postal Service will be considered hand-delivered applications and must be received by the above specified date and time.

Part II. Authority

Omnibus Appropriations Resolution, 2003, Pub. L. 1087; Consolidated Appropriations Act, 2001, Pub. L. 106-554, 29 U.S.C. 557b.

Part III. Background

Young people with disabilities experience significant challenges in making a successful transition to adult life. According to the U.S. Department of Education, national high school graduation rates (e.g., diplomas, GED, alternative certificates) for students with disabilities lag considerably below that of youth without disabilities. Nearly nine-tenths or 88% of students without disabilities graduate as compared to only 62% of those with disabilities.⁴ Moreover, students with disabilities experience a school drop out rate that is three times greater than that for youth without disabilities—31% vs. 11%. Youth with emotional disabilities experience an even higher drop out rate of 54%.

⁴ U.S. Department of Education, National Center on Education Statistics, The Condition of Education 2000 in Brief, Jeanne H. Nathanson NCES 2001-045, Washington, DC; U.S. Government Printing Office, 2001 U.S. Department of Education, Office of Special Education and Rehabilitation Services, Twenty-second Annual Report to Congress on the Implementation of the Individuals with Disabilities Act, Washington, DC, U.S. Government Printing Office, 2000.

It is estimated that only one-third of young people with disabilities who need job training receive it. Young people with disabilities also have significantly lower rates of participation in post-secondary education. Finally, the Social Security Administration has found that many young people with disabilities entering the Supplementary Security Income (SSI)/Social Security Disability Insurance (SSDI) rolls are likely to remain on the program rolls for their entire lives.

As reflected in President George W. Bush's New Freedom Initiative, DOL's strategic goals and the Leave No Child Behind Act of 2001 (Pub. L.107-110), young people with disabilities should have the opportunity to make a smooth transition from school to work and/or post-secondary education, to engage in meaningful employment, to live within their communities, and to contribute as productive citizens to society. Over the last 10 years, a number of Federal laws and policies have been implemented to facilitate access to transition planning activities, employment, and community living for youth with disabilities including the Individuals with Disabilities Education Act of 1975, as amended (IDEA); the Rehabilitation Act, as amended; the Carl D. Perkins Vocational and Applied Technology Education Act (Perkins Act) (Pub. L.101-392); the School-to-Work Opportunities Act of 1994 (Pub. L. 103-329); the Workforce Investment Act of 1998 (WIA) (Pub. L. 105-220, 29 U.S.C. 2801 et seq.); and the Leave No Child Behind Act.

Among the most significant pieces of Federal legislation for youth with disabilities is IDEA, which focuses on supports and services for infants, preschoolers, school-aged children, and youth. Transition planning and services were included as new, but key, components in the 1990 reauthorization of IDEA. Under IDEA, “transition services” are defined in part as “a coordinated set of activities for a student with a disability that (A) is designed within an outcome-oriented process, that promotes movement from school to post-school activities, including post-secondary education, vocational training, integrated employment (including supported employment), continuing and adult education, adult services, independent living, or community participation.” 20 U.S.C. 1401(30). Under IDEA, as reauthorized in 1997, a statement of transition service needs must be included in the student's Individualized Education Plan (IEP) beginning at age 14.

By age 16, or younger if appropriate, the IEP must include a statement of needed transition services that describes related services and community experiences necessary for the student to engage in meaningful employment and/or post-secondary education and successful community living. Transition services must be based upon the individual student's preferences, interests, and needs, and include:

• Instruction;

• Related services;

• Community experiences;

• Development of employment and other post-school adult living objectives, and

• Acquisition of daily living skills, including functional vocational evaluation when appropriate.

The school system is responsible for ensuring that each youth receives all needed transition services. As discussed below, however, multiple agencies such as vocational rehabilitation agencies need to be involved in transition to ensure success.

The Rehabilitation Act, as amended in 1998, also includes a number of provisions that impact the transition planning process. Because it uses the same definition of transition as IDEA, and requires that rehabilitation and education agencies undertake actions to facilitate transition, the Rehabilitation Act promotes coordination of transition and rehabilitation. Premised on consumer involvement, the Rehabilitation Act requires that an Individualized Plan for Employment (IPE), which identifies a vocational goal and all the services needed to achieve that goal, be developed in coordination with the IPE. After the student has been determined eligible, transition services may be provided based upon the individual student's needs including no-cost services such as career guidance and counseling and unpaid on the job training, as well as “purchased” services such as assistive technology assessment and devices and supported employment.

The Perkins Act also provides Federal assistance for vocational education programs in both secondary and post-secondary settings. The provisions of the Perkins Act state that schools will assist “special populations” (which includes students with disabilities) to enter vocational education programs and will assist students with disabilities in fulfilling the transitional services requirement of IDEA.

The School-to-Work Opportunities Act of 1994, which sunset in October of 2001, paved the way for a new approach to learning and employment in America. Jointly administered by the United States Departments of Education and Labor, School-to-Work brought together parents, teachers, and business leaders to create courses to prepare students both academically and practically for the world of work. The intent of the School-to-Work Opportunities Act of 1994 was to provide a national framework and venture capital to allow all states to create a universal statewide transition system that offered all young Americans access to performance-based training; this training aimed to enable them to earn portable credentials, prepare them for their first jobs in high-skill, high-wage careers, and increase their opportunities for further education.

Programs funded under the School-to-Work Opportunities Act were required to integrate work-based and school-based learning components as well as “connecting activities” to match students with work-based learning opportunities through partnerships with schools, employers and other community partners. The school-based learning component centered on the student's career major and his/her ability to meet “the same challenging academic standards established for all students in their state.” Work-based learning, which included work experience, workplace mentoring, and instruction in “general workplace competencies” was intended to give practical meaning to academic concepts and to transform traditional instruction into learning experiences. Connecting activities were intended to connect the school- and work-based learning components and included such activities as matching students with work-based learning positions, providing technical assistance to employers in designing work-based learning, and linking school-to-work activities with employer and industry strategies for upgrading skills.

The WIA, which superceded the Job Training Partnership Act (Pub. L. 102-367), provides a variety of work preparation programs to assist youth with disabilities in achieving their career ambitions. One of the most significant reforms under WIA section 129(c) (29 U.S.C. 2854(c)), is the consolidation of the year-round youth program and the summer youth program into a single formula-based funding stream. Under WIA, each local workforce investment area must have a year-round youth services strategy that incorporates summer youth employment opportunities as one of ten required program elements (WIA section 129(c)(2), 20 CFR 664.410). The 10 program elements reflect successful youth development approaches and focus on the following four key themes:

1. Improving educational achievement (including such elements as tutoring, study skills training, instruction leading to secondary school completion, drop-out prevention strategies, and alternative secondary school offerings);

2. Preparing for and succeeding in employment (including summer employment opportunities, paid and unpaid work experience, and occupational skills training);

3. Supporting youth (including supportive services needs, providing adult mentoring, follow-up services, and comprehensive guidance and counseling); and

4. Offering services intended to develop the potential of young people as citizens and leaders (including leadership development opportunities).⁵

⁵ It should be noted that the evidence-based operating principles central to this grant align closely with the four key themes for serving youth under WIA.

The No Child Left Behind Act of 2001, signed by President Bush on January 8, 2002, is a landmark in education reform designed to improve student achievement and change the culture of America's schools. The Act demands stronger accountability for results for all students, including those who are economically disadvantaged, from racial and ethnic minority groups, have disabilities, or have limited English proficiency. In addition, it provides for greater flexibility for states, school districts and schools in the use of Federal funds, more choices for parents of children from disadvantaged backgrounds, and an emphasis on teaching methods that have been demonstrated to work. The Act also places an increased emphasis on reading, especially for young children, enhancing the quality of our nation's teachers, and ensuring that all children in America's schools learn English.

Increasing the number of youth making a successful transition to work is integral to accomplishing the employment-related objectives of President Bush's New Freedom Initiative and is one of the U.S. Department of Labor's top priorities. A review of effective practices that span education, employment and training, youth development, and disability shows that in order to transition successfully all youth need the following evidence-based transition operating principles in place:

1. Access to high quality standards-based education regardless of the setting;

2. Information about career options;

3. Exposure to the world of work;

4. Opportunities to develop social, civic, and leadership skills;

5. Strong connections to caring adults;

6. Access to safe places to interact with their peers, and

7. Support services to allow them to become independent adults.

With regard to these evidence-based transition operating principles, research specifically indicates that academic and career-technical education for youth should be based on state and/or industry standards, and that youth should have access to a varied and balanced set of learning strategies appropriate for the individual. Research further reflects that in order to help youth make informed choices, they should undergo a career assessment that includes, but is not limited to, interest inventories, and formal and informal vocational assessments. Moreover, they should be exposed to job skills training and career opportunities that provide a living wage, be provided with information about education, entry requirements and income potential, and be provided structured support to post-secondary education and other life-long learning opportunities. In addition, youth with disabilities must be provided with information needed to understand the relationships between appropriate benefits planning and career choices, to learn to identify and access disability-related support and accommodations needed for the workplace and community living, and how best to communicate their disability-related support and accommodation needs to prospective employers and service providers.

Research further reflects that to transition to adulthood successfully all youth should be exposed to a range of work-based exploration experiences such as site visits, community service, job shadowing, and paid and unpaid internships. In providing such experiences for youth with disabilities, mechanisms must be in place to ensure that they learn how to request, locate, and secure the supports and accommodations they need at the workplace.

To foster leadership development, youth should be provided with exposure to role models through a variety of means, including mentoring activities designed to establish strong relationships with adults through formal and informal settings, as well as peer-to-peer mentoring opportunities. In addition, all youth should be provided skills training in self-advocacy and conflict resolution, and be exposed to personal leadership and youth development opportunities including community service. In the case of youth with disabilities, they should be exposed to mentors and role models with and without disabilities, and receive training about disability culture.

Support services, which youth need to transition successfully, may include mental and physical health services, transportation, and tutoring, as well as post-program supports through structured arrangements with post-secondary institutions and adult-serving agencies. In the case of youth with disabilities there may be a need for additional support services including, but not limited to, access to and acquisition of assistive technology, benefits counseling, independent living centers and other consumer-driven community-based support service agencies, and personal assistance services, including readers, interpreters, and other personal assistance services.

Unfortunately, access to transition services consistent with these evidence-based transition operating principles is frequently hampered by the fact that the workforce development and education systems, and the linked income support, health, housing, assistive technology, social service, and transportation service systems, are driven by:

• Differing institutional missions, each with distinctive funding parameters and fiscal incentives;

• Multiple funding streams with substantial variations in expected outcomes;

• Traditions;

• Capacities of the institutions and staff, and

• Many other factors that separate rather than promote a transparent and internally/externally logical system that assists young people to become productive members of our society.

To address this situation, states need to help local communities and service providers find ways to more effectively organize, support, and work with—and through—a wide array of institutions, organizations and family support networks to better meet the transition-related needs of young people with disabilities. If the transition outcomes of youth with disabilities are to improve, businesses, labor unions, educational institutions, social service agencies, transportation providers, health service organizations, and other community providers must work together and Federal, state, and local community resources must be leveraged effectively.

To promote the integration of the aforementioned evidence-based transition operating principles into local transition service delivery, and in recognition that intermediary organizations can play a key, convening role in effectuating systems change, ODEP is funding these Innovative State Alignment Grants to address this need. This SGA is designed to help states to:

• Conduct resource-mapping to assess their youth service delivery infrastructure in light of the evidence-based transition operating principles discussed above;

• Develop, implement, and evaluate a cross-agency multi-year state plan to improve transition outcomes for youth with disabilities through blending and/or braiding of Federal, state, and community resources and the use of local intermediary organizations, and

• Conduct local pilot demonstrations to determine:

• How intermediary organizations can best be used to ensure that youth with disabilities obtain transition services consistent with the evidence-based transition operating principles, and

• The impact those intermediaries have on improving transition outcomes for youth with disabilities.

All grant-related activities are to be evaluated consistent with the framework set forth in Pro-Bank ⁶ and specific outcomes are to be measured based on data already being collected from multiple service sectors (e.g., workforce development, education, etc).

⁶ Utilizing the Congressionally recognized Malcolm Baldrige Quality Award criteria for continuous improvement, as well as research conducted by PEPNet, the Workforce Excellence Network (WEN), the National Center on Secondary Education and Transition (NCSET), and the Center for the Study and Advancement of Disability Policy (CSADP), the National Collaborative on Workforce and Disability for Youth (NCWD/Youth) developed the Pro-Bank framework. The framework consists of eight categories by which an organization can assess its operations; products and services in terms of the aforementioned evidence-based transition operating principles for providing effective transition services to youth with disabilities. Pro-Bank information may be found at: http://www.ncwd-youth.info/promising_Practices/index.html—using guide.

In order to conduct the local pilot demonstrations required under the grant, the grantee is expected to sub-award a substantial portion of its award to fund local intermediary organizations that have demonstrated expertise and experience in enlisting the active support and participation of key stakeholders, including education entities, the workforce development system, businesses, organized labor, and local faith-based and community organizations. These activities include, but are not limited to, effectively operating and managing their programs, accessing governmental and private funding sources, developing and training staff, expanding the types and reach of services in their communities, and replicating promising and effective practices. Grant funds issued through these sub-awards may be used to support a wide range of local intermediary activities that help to ensure positive transition outcomes for youth with disabilities between the ages of 14 and 24. Allowable activities include, but are not limited to:

• Convening key stakeholders to establish community-wide partnerships committed to preparing young people with disabilities for employment and/or further educational training and/or independent living;

• Supporting peer learning and leadership opportunities;

• Providing necessary information and training in areas such as benefits planning, universal access, reasonable accommodation, mental health, housing, transportation, health maintenance (including Medicare and Medicaid), and other self-sufficiency issues;

• Evaluating transition programs using evidence-based methods as set forth in Pro-Bank;

• Organizing and participating in strategic alliances with business groups and organizations;

• Integrating school and work-based learning, integrating academic and vocational education, and establishing linkages between secondary and post-secondary education;

• Systematically integrating existing local education and training programs and resources with related Federal, State, and local programs to address effectively the learning and employment needs of youth with disabilities;

• Providing staff development to teachers, employers, mentors, counselors, community rehabilitation agency personnel, One-Stop staff, and others critical to successful transition outcomes.

Through these grant activities and associated technical assistance provided by the National Collaborative on Workforce and Disability for Youth (NCWD/Youth) (see www.ncwd-youth.info), which ODEP funds, ODEP anticipates effectuating systemic change that will lead to improved transition results for youth with disabilities. Projects are required to collaborate with the NCWD/Youth as a condition of the grant to ensure that the strategies and techniques developed as a result of these grant activities can serve as models for other states' systems of youth service delivery.

Part IV. Funding Availability and Period of Performance

ODEP anticipates awarding up to 6 grants in the amount of $500,000, totaling $3 million. The grants will be for a one-year period of performance and may be renewed annually up to four additional option years for a total of five years at full funding depending upon the availability of funds and the efficacy of the grant activities, established by independent reviews conducted by the Department of Labor or its designee.

Proposals must include budgetary information for a five-year period. It is anticipated that in the first three quarters of the first funding year, grantees will be conducting the youth service infrastructure assessment (resource mapping), developing the cross-agency state plan, designing local demonstrations, and making the sub-awards to intermediaries necessary to implement the plan. The demonstration-related activities will be carried out in subsequently funded years.

Part V. Eligible Applicants

Eligible applicants include State Workforce Investment Boards or the state's functionally equivalent entities. Indian and Native American tribal entities, or consortia of tribes, may apply for Innovative State Alignment Grants for Improving Transition Outcomes for Youth with Disabilities through the Use of Intermediaries. These grants would involve coordination of youth services and enhancements for people with disabilities in a specific Indian community or covering multiple tribal entities that may cut across multiple States and/or workforce investment areas. Grants to Indian and Native American tribal grantees are treated differently because of sovereignty and self-governance established under the Indian Self-Determination and Education Assistance Act allowing for the government-to-government relationship between the Federal and tribal governments.

Part VI. Format Requirements for Grant Application

General Requirements: Applicants must submit one (1) copy with an original signature and 2 additional copies of their proposal. To aid with the review of applications, DOL also encourages Applicants to submit an electronic copy of their proposal on a disc or CD using Microsoft Word. Applicants who do not provide an electronic copy will not be penalized. The Application Narrative must be double-spaced with standard margins on 8½ x 11 papers, and be presented on single-sided, numbered pages with the exception of format requirements for the Executive Summary. The Executive Summary must be limited to no more than two single-spaced, single-sided pages on 8½ x 11 papers with standard margins throughout. A font size of at least twelve (12) pitch is required throughout. Applications that fail to meet these requirements will be considered non-responsive.

The three required sections of the application are:

Section I—Project Financial Plan;

Section II—Executive Summary—Project Synopsis;

Section III—Project Narrative (including Attachments, not to exceed 40 pages).

Mandatory requirements for each section are provided as follows in this application package. Applications that fail to meet the stated mandatory requirements of each section will be considered non-responsive.

Mandatory Application Requirements

• Section I. Project Financial Plan (Budget) (The Project Financial Plan will not count against the application page limits.) Section I of the application must include the following three required parts:

(1) Completed “SF 424—Application for Federal Assistance” (See Appendix A of this SGA for required form).

(2) Completed “SF-424A—Budget Information Form” by line item for all costs required to implement the project design effectively. (See Appendix B of this SGA for required forms).

(3) Budget Narrative and Justification that provides sufficient information to support the reasonableness of the costs included in the budget in relation to the service strategy and planned outcomes.

The application must include one SF-424 with the original signatures of the legal entity applying for grant funding and 2 additional copies. Applicants shall indicate on the SF-424 the organization's IRS Status, if applicable. Under the Lobbying Disclosure Act of 1995, section 18 (29 U.S.C. 1611), an organization described in section 501(c)(4) of the Internal Revenue Code of 1986 that engages in lobbying activities will not be eligible for the receipt of Federal funds constituting an award, grant, or loan. (See 2 U.S.C. 1611; 26 U.S.C. 501(c)(4).) For item 10 of the SF-424, the Catalog of Federal Domestic Assistance (CFDA) number for the program is 17.720.

The Budget Narrative and Justification must describe all costs associated with implementing the project that are to be covered with grant funds. Grantees must provide for the travel and associated costs of sending at least one representative to the annual ODEP Policy Conference for Grantees, to be held in Washington, DC at a time and place to be determined. Grantees must comply with the “Uniform Administrative Requirements for Grants and Cooperative Agreements to State and Local Governments,” (also known as the “Common Rule”) codified at 29 CFR part 97, and must comply with the applicable OMB cost principles circulars, as identified in 29 CFR 95.27 and 29 CFR 97.22(b).

In addition, the budget must include on a separate page a detailed cost analysis of each line item. Justification for administrative costs must be provided. Approval of a budget by DOL is not the same as the approval of actual costs. The individual signing the SF 424 on behalf of the applicant must represent and be able to legally bind the responsible financial and administrative entity for a grant should that application result in an award. The applicant must also include the Assurances and Certifications Signature Page (Appendix C).

• Section II. Executive Summary—Project Synopsis (The Executive Summary is limited to no more than three single-spaced, single-sided pages on 8½ x 11 papers with standard margins throughout.) Each application shall include a project synopsis that identifies the following:

(1) The name of the applicant;

(2) The planned period of performance;

(3) The actions already undertaken by the state to address transition outcomes for youth with disabilities;

(4) An overview of the applicant's plan for using resource mapping to assess the state's existing youth service infrastructure, including existing intermediary organizations, to determine whether and/or to what extent it is currently serving youth with disabilities consistent with the evidence-based operative principles discussed previously and the criteria established in Pro-Bank;

(5) A statement of the applicant's strategy for obtaining and sustaining collaboration and coordination among and between Federal, State, and local agencies needed to finance transition services for youth with disabilities through the blending and braiding of resources, and for developing initial common performance measures;

(6) An overview of how the applicant will develop and use local demonstration projects to address any gaps revealed in the statewide youth infrastructure assessment, and a general statement of how local model demonstrations will be conducted to determine how intermediaries can best be used to ensure that transition services consistent with the aforementioned operating principles are incorporated into the State and local systems of service delivery; and

(7) The ways in which the proposal is coordinated with other disability-related grant initiatives from DOL, the Department of Education, the Department of Health and Human Services (HHS), the Social Security Administration (SSA), the Department of Housing and Urban Development (HUD) and other Federal partners.

• Section III. Project Narrative (The Project Narrative plus attachments are limited to no more than forty (40) 8½ x 11 pages, double-spaced with standard one-inch margins (top, bottom, and sides), and be presented on single-sided, numbered pages. Note: The Financial Plan, the Executive Summary, and the Appendices are not included in the forty (40)—page limit.) The substantive requirements for the project narrative are described below under part VII— Statement of Work.

All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Part VII. Government Requirements/Statement of Work (Project Narrative)

The Project Narrative, or Section III of the grant application, should provide complete information on how the applicant will address the following Department of Labor strategic goal priorities to ensure a Prepared Workforce:

(1) Increasing the availability of skills training, employment opportunities, and career advancement for persons with disabilities.

(2) Increasing the number of youth making a successful transition to work or who enter further training or educational programs.

Proposals will be rated based upon the quality of the applicant's response in addressing the four criteria described below in terms of a comprehensive strategic approach that incorporates the Department's priorities noted above. The four criteria (Statement of Need, Comprehensive Service Strategy, Sustainability, and Management and Outcomes) must be addressed and the applicant's accomplishments or status with regard to each item provided.

The Department, however, does not expect the applicant to incorporate every item listed as part of their strategy and proposal design. The Department recognizes that the needs and requirements of each state may be different, and therefore, some of the options identified may be more relevant than others in a particular state.

1. Statement of Need (10 points)

The purpose of the Statement of Need criteria is to establish the overall status of disability issues relating to youth in the applicant's state; to identify strengths and deficiencies to be addressed by the applicant's proposal; to identify the overall scope of proposal objectives and design; and to present the applicant's need for grant resources. These criteria will be rated based upon the applicant's identified needs and proposed approaches to addressing these needs in the context of the Department's priorities.

For proposals targeted to a specific Indian community or covering multiple tribal entities which may cut across multiple states and/or local areas, describe the overall approach of the project, and identify the inadequacies and deficiencies of the service delivery to the applicable community, and how the project expects to address these.

The narrative in this section should:

(1) Describe the potential contribution of the proposed project to increasing the quality and coordination of transition services available in the state;

(2) Describe the overall status and actions taken to date within the state related to addressing the transition needs of youth with disabilities;

(3) Describe how intermediary organizations are currently being used in the youth service delivery infrastructure and provide an overview of the youth service provider organizations operative within the state;

(4) Describe any significant deficiencies in the state or local workforce investment system, in the educational system, in the vocational rehabilitation system and in the provision of employment-related supports such as housing, health care, and transportation that present barriers to employment for young people with disabilities and explain what will be accomplished under this grant to address them;

(5) Identify the percentage of young people with disabilities in the state overall; the percentage receiving Social Security Disability Insurance (SSDI), Social Security Income (SSI), and Medicaid and Medicare benefits; and the percentage receiving special education, vocational rehabilitation, mental health, and WIA-funded services;

(6) Identify the most recent state graduation rates for young people with disabilities in the state, as well as the overall graduation rate;

(7) Describe the number of young people with disabilities expected to be served within the state, and the importance or magnitude of the results that are likely to be attained by the proposed project; and

(8) Identify additional state and/or local funds and resources that will be used to support and sustain the overall objectives of the grant;

(9) Identify networks of faith-based and community organizations that will be utilized in the service delivery system.

In evaluating the quality of the proposal narrative, ODEP will consider the applicant's needs identified and proposed approaches to addressing the needs in the context of ODEP's priorities.

2. Comprehensive Service Strategy (35 points)

The purpose of the Comprehensive Service Strategy criterion is to identify the approach the applicant is proposing to:

• Conduct resource mapping to assess the state's current youth service infrastructure in light of the evidence-based transition operating principles and the categories outlined in the Pro-Bank framework;

• Develop, implement, and evaluate a cross-agency multi-year state plan to improve transition outcomes for youth with disabilities through blending and/or braiding of Federal, state, and community resources and the use of local intermediary organizations;

• Conduct pilot demonstrations to determine:

• How intermediary organizations can best be used to ensure, through cross-agency partnerships, that youth with disabilities obtain transition services consistent with the evidence-based operating principles, and

• The impact those intermediaries have on improving transition outcomes for youth with disabilities.

In general, this requires extensive linkages, knowledge and understanding of the Pro-Bank framework and resource mapping, as well as applicable resources that address multiple disability issues and barriers to education and employment that are commonly experienced by young persons with disabilities.

A. Staff Capacity—The applicant must identify how it will ensure that trained staff knowledgeable about the state's youth serving infrastructure and of the complexities of coordinating the services and supports needed for youth with disabilities to transition successfully are available to conduct the activities required under this grant. Accordingly, the application should:

(1) List key positions required to carry out the project as proposed, the key individuals proposed to fill the positions, and a detailed description of the kind of work these individuals will perform within the project;

(2) Provide evidence of the staff's skill, knowledge and experience in carrying out these types of activities, and describe their relevant training (resumes must be included in the Appendices);

(3) Describe the specific experience the key personnel have in serving young people with disabilities, in addressing specific barriers to employment, and in implementing and administering project plans similar to that in the proposed grant project; and

(4) Describe how ongoing technical assistance and staff development will be provided.

B. Proposed Design—In addressing the proposed design element of the Statement of Work, the applicant should:

(1) Describe the project partnerships in detail, and the commitment (including resource commitment) of the partners to the proposed project.

(2) Discuss how the applicant will ensure the participation and cooperation of the following stakeholders in both designing and implementing of the improved state youth service infrastructure:

a. State departments of Labor, Education, and Vocational Rehabilitation, Governors' Committees on Employment of People with Disabilities, State Councils for Independent Living, Mental Health Agencies, Mental Retardation and Developmental Disability Councils, and Temporary Assistance for Needy Families (TANF) Agencies;

b. Local WIA youth services providers, Jobs Corps representatives, public housing and transportation authorities, local One Stop centers and other community partners (e.g., area disability organizations, Centers for Independent Living, faith-based and community organizations);

c. Employers and their professional networks such as Business Leadership Networks (BLNs) that have been established in approximately 30 states, Chambers of Commerce, and other employer trade associations; and

d. Youth with disabilities, their families, the state's Youth Leadership Forum (where one has been established), and state members of the National Youth Leadership Network.

(3) Discuss how the applicant will work with Federal agencies and programs as needed to blend the Federal services with the improved state youth service infrastructure. Federal agencies and programs may include the Department of Health and Human Services' Maternal and Child Health Bureau, Children with Special Health Care Needs Program, Center for Medicare & Medicaid Services, Substance Abuse and Mental Health Services Administration, and Administration on Developmental Disabilities; Social Security Administration; and the Department of Education's Office of Special Education and Rehabilitative Services;

(4) Describe how the statewide assessment of the existing youth service infrastructure using resource mapping will be conducted and how its results will be used to redirect services, and blend and braid resources across multiple funding streams that may have diverse performance measures and data collection systems;

(5) Describe the process that will be used in making sub-awards to intermediaries, and the types of functions intermediaries will play in grant-related activities;

(6) Explain how model demonstrations will be conducted, and how such demonstrations will be used in conjunction with the results of the statewide assessment to develop a replicable framework for using intermediaries to provide transition services that result in improved outcomes for youth with disabilities;

(7) Explain how the activities proposed will lead to better coordination of available resources, better service delivery, and ultimately more youth with disabilities obtaining jobs, job training, and post-secondary education;

(8) Identify and explain the benefits or results expected from the grant activities proposed; and

(9) Explain how technology will be used in carrying out grant activities (e.g., tracking outcomes, data collection, e-mentoring, web-based trainings, assistive technology, etc.)

In evaluating the quality of the proposed project design, ODEP will consider the following factors:

(a) The extent to which the goals, objectives, and outcomes to be achieved by the proposed project are clearly specified and measurable;

(b) The extent to which the design of the proposed project is appropriate to, and will successfully address, the needs of the target population and other identified needs and the quality of the applicant's plans regarding project partnerships and intermediary organization utilization;

(c) The extent to which experienced and trained staff will direct the key activities of the grant;

(d) The extent to which the design of the proposed project provides procedures and approaches for collaboration and coordination with key agencies and organizations and identification of critical roles;

(e) The extent to which the design of the proposed project provides clear understanding and integration of the Pro-bank framework and resource mapping;

(f) The extent to which the proposed project will be coordinated, including demonstrated support and commitment from key organizations, employers, and agencies;

(g) The extent to which the applicant encourages involvement of people with disabilities and their families, experts and organizations, and other relevant stakeholders in project activities;

3. Sustainability (30 points)

The purpose of the Sustainability criterion is to identify strategies for ensuring that activities funded under the grant will continue once Federal funding ceases. Resources and partnerships are an integral element of the project, as they support and strengthen the quality of the technical skills training provided and contribute materially toward sustainability. Sustainability must be an objective built into the project design and ongoing operation of the project.

Projects funded under this SGA will be judged on their demonstrated ability to leverage a combination of Federal, State, and local public sector resources, as well as private and local non-profit sector resources for purposes of sustainability. Accordingly, in this section the applicant should enumerate these resources, describe any specific existing contractual commitments, and provide concrete evidence of the likelihood of continued support after the grant period.

Grantees are expected to use this grant as seed money to develop other public and private resources in order to ensure sustainability of grant activities following completion of the funding period. The Department considers detailed commitments for specific new activities as more important than promises of in-kind supports in showing sustained support for the project. Grants recently received from another agency can be discussed in the proposal, but the applicant should be precise about which activities precede this grant and which will occur because of this grant.

In evaluating the quality of the plan for sustainability, the Department considers the following factors to be of particular importance:

(a) The extent to which the proposed project is designed to build capacity and yield results that will extend beyond the period of this grant;

(b) The likelihood that use of the Pro-Bank framework will serve as a basis for continuous improvement of the state's youth service infrastructure;

(c) The likelihood of the applicant successfully securing state ownership and participation in these projects when these grant funds cease; and

(d) The extent to which partnerships with outside entities (including public and private disability and faith-based and community organizations) and funding from additional Federal, State, and/or local resources will be effectively leveraged and utilized in continuing activities after the expiration of the grant.

Letter from the Governor. A letter from the Governor or functionally equivalent entity reflecting support of the applicant's proposal will be viewed favorably. If a letter from the Governor is not feasible, the application may include a letter from the head of an appropriate State agency.

Other Letters of Commitment. Applicants may also include letters of support from other relevant State agencies if they provide specific commitments regarding the application to this solicitation. Such letters can increase an applicant's score by showing that the commitments in the text of the proposal are grounded with actual commitments. Form letters will be considered non-responsive.

4. Management and Outcomes (25 points)

The purpose of the Management and Outcomes criterion is to determine whether the applicant has developed an adequate management plan to effectively carry out the objectives and scope of the proposed project on time and within budget, to describe the predicted outcomes resulting from activities funded under this SGA, and to identify how the results of the evaluation(s) conducted using the Pro-Bank framework and data already being collected from multiple service sectors (e.g., workforce development, education, etc.) will be used to determine success.

Applicants should provide a detailed management plan that identifies the critical activities, time frames and responsibilities for effectively implementing the project, including the evaluation process for assuring successful implementation of grant objectives. A description should be provided of the plan to use data already being collected across services sectors to identify the demographic characteristics of youth with disabilities served in the applicant's state as a result of grant activities, as well as to identify the types of activities being conducted, and to determine program outcomes (e.g., post-secondary education, employment, independent living, etc.). This data is then to be compared with comparable data on students with and without disabilities not participating in the grant project(s).

In addition, applicants should outline the strategy for documenting and reporting the activities undertaken during the life of the grant for ODEP's future use in working with other grantees and constituencies.

In evaluating the management and outcome criteria, the Department considers the following factors to be of particular importance:

(1) The extent to which the goals, objectives, and outcomes to be achieved are clearly specified and measurable;

(2) The extent to which the design of the proposed project features innovative methods for developing new sites and/or strengthening existing sites;

(3) The extent to which the proposal incorporates the cross-agency, multi-year state plan in part VII, Government Requirements/Statement of Work, section 2, Comprehensive Service Strategy;

(4) The extent to which the proposed budget and narrative justification are adequate to support the proposed project;

(5) The extent to which performance feedback and continuous improvement are integral to the design of the proposed project;

(6) The extent to which the methods of evaluation are thorough, feasible, and appropriate to the goals, objectives, context, and outcomes of the proposed project;

(7) The extent to which the methods of evaluation provide for examining the effectiveness of project implementation strategies;

(8) The extent to which the methods of evaluation include the use of objective performance measures that are clearly related to the intended outcomes of the project and will produce quantitative and qualitative data;

(9) The extent to which the evaluation will provide information to other programs about effective strategies suitable for replication or testing in other settings;

(10) The extent to which the methods of evaluation measure, in both quantitative and qualitative terms, program results and satisfaction of people with disabilities;

(11) The extent to which the management plan for project implementation is likely to achieve the objectives on time and within budget;

(12) The adequacy of mechanisms for ensuring high-quality products and services from the proposed project; and

(13) The extent to which the time commitments of the state director and other key project personnel are appropriate and adequate to meet the objectives of the proposed project.

Part VIII. Monitoring and Reporting

Monitoring: Department shall be responsible for ensuring the effective implementation of each competitive grant project in accordance with the provisions of this announcement and the terms of the grant award document. Applicants should assume that Department staff, or their designees, will conduct on-site project reviews periodically. Reviews will focus on timely project implementation, performance in meeting the grant's programmatic goals and objectives, expenditure of grant funds on allowable activities, integration and coordination with other resources and service providers in the local area, and project management and administration in achieving project objectives. Innovative State Alignment Grants for Improving Transition Outcomes may be subject to other additional reviews at the discretion of the Department.

Reporting: Grantees will be required to submit quarterly financial and narrative performance reports under the Innovative State Alignment Grants for Improving Transition Outcomes program as prescribed by OMB Circular A-102 and A-110, as codified by 29 CFR parts 97.

(1) A Quarterly Report will be required within thirty (30) days of the end of each quarter beginning ninety days from the award of the grant and is estimated to take five hours to prepare on average. The form for the Quarterly Report will be provided by ODEP. ODEP will work with the grantee to help refine the requirements of the report, which will, among other things, include measures of ongoing analysis for continuous improvement and customer satisfaction.

(2) Financial reporting will be required quarterly using the on-line electronic reporting system for the Standard Form 269—Financial Status Report (FSR).

(3) A Final Project Report, including an assessment of project performance and outcomes achieved will be required and is estimated to take twenty hours to complete. This report will be submitted in hard copy and on electronic disk using a format and following instructions that will be provided by ODEP. A draft of the final report is due to the ODEP thirty (30) days before the termination of the grant. The final report is due to ODEP sixty (60) days following the termination of the grant.

The Department has established priorities for FY 2003 as noted in the introduction of part VII—Government Requirements/Statement of Work. Innovative State Alignment Grants for Improving Transition Outcomes grantees will be expected to support these priorities.

ODEP may arrange for and conduct an independent evaluation of the outcomes, impacts, and accomplishments of each funded project. Grantees must agree to make available records on all parts of project activity, including participant post secondary and employment data, and to provide access to personnel, as specified by the evaluator(s), under the direction of ODEP. This independent evaluation is separate from the ongoing evaluation for continuous improvement required of the grantee for project implementation. Grantees must also agree to collaborate with other research institutes, centers, studies, and evaluations that are supported by DOL and other relevant Federal agencies, as appropriate. Finally, Grantees must agree to actively utilize the programs sponsored by the ODEP, including the Job Accommodation Network, (http://www.jan.wvu.edu), and the Employer Assistance Referral Network (http://www.earnworks.com).

Part IX. Review Process and Evaluation Criteria

All applications will be reviewed for compliance with the requirements of this notice. A careful evaluation of applications will be made by a technical review panel, which will evaluate the applications against the rating criteria listed in this SGA. The panel results are advisory in nature and not binding on the Grant Officer. The Department may elect to award grants either with or without discussion with the applicant. In situations without discussions, an award will be based on the applicant's signature on the SF 424, which constitutes a binding offer. The Grant Officer may consider any information that is available and will make final award decisions based on what is most advantageous to the Government, considering factors such as:

Panel findings; Geographic distribution of the competitive applications and the currently existing Youth Innovative Grants (NAPA and San Diego, CA; Kapolei, HI; Chicago, IL; Greenfield, IN; Wheaton, MD; Detroit, MI; Bloomington, MN; Jackson, MS; New York, NY; Oklahoma City, OK; Portland, OR; Philadelphia, PA; Falls Church, VA; and Seattle, WA); and Availability of funds.

Part X. Administration Provisions

I. A. Administrative Standards and Provisions

Grantees are strongly encouraged to read these regulations before submitting a proposal. The grants awarded under this SGA shall be subject to the following as applicable:

• 29 CFR part 95—Grants and Agreements With Institutions of Higher Education, Hospitals, and Other Non-Profit Organizations, and With Commercial Organizations, Foreign Governments, Organizations Under the Jurisdiction of Foreign Governments, and International Organizations.

• 29 CFR part 96— Audit Requirements for Grants, Contracts, and Other Agreements.

• 29 CFR part 97—Uniform Administrative Requirement for Grants and Cooperative Agreements to State and Local Governments.

II. B. Allowable Costs

Determinations of allowable costs shall be made in accordance with the following Federal cost principles as applicable:

• State and Local Government—OMB Circular A-87.

• Nonprofit Organizations—OMB Circular A-122.

• Profit-Making Commercial Firms—48 CFR part 31.

Profit will not be considered an allowable cost in any case.

III. C. Grant Assurances

As a condition of the award, the applicant must certify that it will comply fully with the nondiscrimination and equal opportunity provisions of the following laws:

• 29 CFR part 31—Nondiscrimination in Federally-assisted programs of the Department of Labor, effectuation of title VI of the Civil Rights Act of 1964.

• 29 CFR part 32—Nondiscrimination on the Basis of Disability in Programs and Activities Receiving or Benefiting from Federal Assistance. (Implementing section 504 of the Rehabilitation Act, 29 U.S.C. 794).

• 29 CFR part 36—Nondiscrimination on the Basis of Sex in Education Programs or Activities Receiving Federal Financial Assistance. (Implementing title IX of the Education Amendments of 1972, 20 U.S.C. 1681 et seq.).

Signed in Washington, DC this 10th day of June, 2003.
Lawrence J. Kuss,
Grant Officer.

Appendix A. Application for Federal Assistance, Form SF 424

Appendix B. Budget Information Sheet, Form SF 424A

Appendix C. Assurances and Certifications Signature Page

Appendix D. Survey on Ensuring Equal Opportunity

BILLING CODE 4510-CX-P

[FR Doc. 03-15115 Filed 6-13-03; 8:45 am]

BILLING CODE 4510-CX-C